DEPARTMENT OF STATE

[Public Notice 6639]

Shipping Coordinating Committee Meeting

The Shipping Coordinating Committee (SHC) will conduct an open meeting at 10 a.m. on Thursday, September 10, 2009, in Room 1303 of the United States Coast Guard Headquarters Building, 2100 Second Street, SW., Washington, DC 20593. The primary purpose of the meeting is to prepare for the 14th Session of the International Maritime Organization (IMO) Sub-Committee on Dangerous Goods, Solid Cargoes and Containers (DSC 14) to be held at the IMO Headquarters in London, England from September 21 to September 25, 2009.

The primary matters to be considered at DSC 14 include:

—Amendments to the International Maritime Dangerous Goods (IMDG) Code and Supplements including harmonization of the IMDG Code with the United Nations Recommendations on the Transport of Dangerous Goods.

—Amendments to the International Maritime Solid Bulk Cargoes Code (IMSBC Code) including evaluation of properties of solid bulk cargos.

—Amendments to the Code of Safe Practice for Cargo Stowage and Securing (CSS Code).

—Casualty and incident reports and analysis.

—Review of the Code of Practice for the Safe Unloading and Loading of Bulk Carriers (BLU Code).

—Review of the Recommendations on the Safe Use of Pesticides in Ships.

—Guidance on protective clothing.

—Revision of the Code of Safe Practice for Ships Carrying Timber Deck Cargoes.

—Stowage of water-reactive materials.

—Amendments to the International Convention for Safe Containers, 1972 and associated circulars.

—Review of the Guidelines for packing of cargo transport units.

—Review of documentation requirements for dangerous goods in packaged form.

—Amendments to MARPOL Annex III.

—Revision of the Recommendations for entering enclosed spaces aboard ships.

—Consideration for the efficacy of Container Inspection Programme.

—Installation of equipment for detection of radioactive sources or radioactive contaminated objects in ports.

Members of the public may attend the September 10, 2009 meeting up to the seating capacity of the room. The Coast Guard Headquarters building is accessible by taxi and privately owned conveyance. Please note that parking in the vicinity of the building is extremely limited and that public transportation is not generally available. For members of the public that cannot attend the meeting in person, telephone conferencing may be available upon request. To facilitate the building security process or to obtain additional meeting information please contact Mr. R. Bornhorst by mail at U.S. Coast Guard (CG-5223), 2100 Second Street, SW STOP 7126, Washington, DC 20593-7126; by e-mail at Richard.C.Bornhorst@uscg.mil; or by calling (202) 372-1426. A member of the public needing reasonable accommodation should make his or her request by September 3rd. Requests submitted after that date will be considered, but might not be able to be fulfilled. Additional information regarding this and other SHC public meetings and associated IMO meetings may be found at: http://www.uscg.mil/imo.

Dated: August 6, 2009.
J. Trent Warner,
Executive Secretary, Shipping Coordinating Committee, Department of State.

[FR Doc. E9-19354 Filed 8-11-09; 8:45 am]

BILLING CODE 4710-09-P